COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date deleted from the Procurement List: May 12, 2024.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Deletions

On 3/8/2024, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7350-01-574-8714—Cup, Paper, Biobased, Biodegradable, Hot, Tall Style, White, 8 oz, with Handle

7350-01-574-8735—Cup, Paper, Biobased, Biodegradable, Cold, Tall Style, White, 16 oz

7350-01-574-8736—Cup, Paper, Biobased, Biodegradable, Hot, Tall Style, White, 16 oz

7350-01-574-8730—Cup, Paper, Biobased, Biodegradable, Hot and Cold, Tall Style, White, 6 oz

7350-01-574-8732—Cup, Paper, Biobased, Biodegradable, Cold, Tall Style, White, 9 oz

7350-01-574-8733—Cup, Paper, Biobased, Biodegradable, Cold, Tall Style, White, 12 oz

7350-01-574-8734—Cup, Paper, Biobased, Biodegradable, Hot, Tall Style, White, 12 oz

7350-01-574-8737—Cup, Paper, Biobased, Biodegradable, Hot, Tall Style, White, 8 oz

7350-01-574-8717—Cup, Paper, Biobased, Biodegradable, Hot, Squat Style, White, 12 oz

7350-01-645-7874—Cup, Disposable, Paper, BioBased, Cold Beverage, White, 21 oz.

Designated Source of Supply: The Lighthouse for the Blind in New Orleans, Inc., New Orleans, LA

Contracting Activity: GSA/FSS GREATER SOUTHWEST ACQUISITI, FORT WORTH, TX

Service(s)

Service Type: Switchboard Operation

Mandatory for: Greater Los Angeles Health Care System: Los Angeles Ambulatory Care Center, Los Angeles, CA

Mandatory for: Greater Los Angeles Health Care System: Sepulveda Ambulatory Care Center

Mandatory for: Greater Los Angeles Health Care System: VA Medical Center, West Los Angeles

Authorized Source of Supply: Lighthouse for the Blind of Houston, Houston, TX

Contracting Activity: VETERANS AFFAIRS, DEPARTMENT OF, NAC

Service Type: Supply Room Support Services

Mandatory for: DCMA, DCMA Headquarters, 3901 A Ave., Fort Gregg-Adams, VA

Designated Source of Supply: Virginia Industries for the Blind, Charlottesville, VA

Contracting Activity: DEFENSE CONTRACT MANAGEMENT AGENCY (DCMA), DEFENSE CONTRACT MANAGMENT OFFICE

Michael R. Jurkowski,
Director, Business Operations.

[FR Doc. 2024-07788 Filed 4-11-24; 8:45 am]

BILLING CODE 6353-01-P